DEPARTMENT OF HEALTH AND HUMAN SERVICES

Administration for Children and Families

Statement of Organization, Functions, and Delegations of Authority

This notice amends Part K of the Statement of Organization, Functions, and Delegations of Authority of the Department of Health and Human Services (DHHS), Administration for Children and Families (ACF) as follows: Chapter KB, Administration on Children, Youth and Families (ACYF) as last amended June 5, 2001 (66 FR 30215) and Chapter KM, Office of Planning, Research and Evaluation (OPRE) as last amended January 2, 1998 (63 FR 81-87). This notice realigns the research functions from the Office of the Commissioner, ACYF with the research functions in the Division of Child and Family Development, OPRE.

These Chapters are amended as follows:

I. Chapter KB, Administration on Children, Youth and Families

A. Delete KB.20 Functions, Paragraph A, in its entirety and replace with the following:

KB.20 Functions A. The Office of the Commissioner serves as principal advisor to the Assistant Secretary for Children and Families, the Secretary, and other officials of the Department on the sound development of children, youth, and families. It provides executive direction and management strategy to ACYF components. The Deputy Commissioner assists the Commissioner in carrying out the responsibilities of the Office. In addition to the Immediate Office, the Office of the Commissioner contains two organizational units. In support of the Commissioner and Deputy Commissioner and in consultation with ACYF programs the:

1. Office of Management Services manages the formulation and execution of the budgets for ACYF programs and for federal administration; serves as the central control point for operational and long range planning; functions as Executive Secretariat for ACYF, including managing correspondence, correspondence systems, and electronic mail requests; reviews and manages clearance for program announcements for ACYF, the Administration for Native Americans (ANA), and the Administration on Development Disabilities (ADD); plans for/coordinates the provision of staff development and training; provides support for ACYF's personnel administration, including staffing, employee and labor relations, performance management and employee recognition; manages procurement planning and provides technical assistance regarding procurement; plans for/oversees the discretionary grant paneling process; manages ACYF-controlled space and facilities; performs manpower planning and administration; plans for, acquires, distributes and controls ACYF supplies; provides mail and messenger services; maintains duplicating, fax, and computer and computer peripheral equipment; supports and manages automation within ACYF; provides for health and safety; and oversees travel, time and attendance, and other administrative functions for ACYF.

The Office of Management Services also reviews and approves formula and entitlement programs for ACYF's bureaus and ADD. It assures that all formula and entitlement awards conform with applicable statutes, regulations, and policies; computes grantee allocations; prepares formula and entitlement awards; ensures incorporation of necessary grant terms and conditions; monitors grantee expenditures; analyzes financial needs under formula and entitlement programs; provides data in support of apportionment requests; prepares reports and analyses on the grantees' use of funds; maintains liaison and coordination with appropriate ACF and HHS organizations to ensure consistence between ACF formula and entitlement grant systems and the Department's grant payment systems; and performs audit resolution activities for formula and entitlement programs.

2. Office of Grants Management provides management and technical administration for discretionary grants for ACYF, ADD, and ANA; reviews, certifies and/or signs all discretionary grants; assures that all discretionary grants awarded by ACYF, ADD, and ANA conform with applicable statutes, regulations, and policies; computes grantee allocations, prepares discretionary grant awards, ensures incorporation of the necessary grant terms and conditions, and monitors grantee expenditures; analyzes financial needs under discretionary grant programs; provides data in support of apportionment requests; and prepares reports and analyses on the grantee's use of funds; maintains liaison and coordination with appropriate ACF and HHS organizations to ensure consistency between ACYF, ADD, and ANA discretionary grant systems and the Department's grant payment systems; provides technical assistance to regional components on discretionary grant operations and technical grants management issues; and performs audit resolution activities for ACYF, ADD, and ANA discretionary grant programs. The Office of Grants Management coordinates and maintains liaison with the Department and other federal agencies on discretionary grants management and administration operational issues and activities.

II. Chapter KM, Office of Planning, Research, and Evaluation

A. Delete KM.20 Function, Paragraph C, in its entirety and replace with the following:

C. The Division of Child and Family Development, in cooperation with ACF programs and others, works with federal counterparts, States, community agencies, and the private sector to: improve the effectiveness and efficiency of programs; assure the protection of children and other vulnerable populations; strengthen and promote family stability; and foster sound growth and development of children and families. The Division provides guidance, analysis, technical assistance and oversight in ACF on: strategic planning and performance measurement for all ACF programs, including child and family development; statistical, policy and program analysis; surveys, research and evaluation methodologies; demonstration testing and model development; synthesis and dissemination of research and demonstration findings; and application of emerging technologies to improve the effectiveness of programs and service delivery.

The Division conducts, manages, and coordinates major cross-program, leading-edge research demonstrations and evaluation studies; and manages and conducts statistical, policy, and program analyses related to children and families. Division staff also provide consultation, coordination, direction and support for research activities related to children and families across ACF programs. The Division develops policy-relevant research priorities; manages the section 1110 social service research budget; and, in partnership with the Head Start Bureau, manages the Head Start Research budget.

Dated: January 22, 2002.
Wade F. Horn,
Assistant Secretary for Children and Families.

[FR Doc. 02-2223 Filed 1-29-02; 8:45 am]

BILLING CODE 4184-01-M